DEPARTMENT OF ENERGY

Federal Energy Regulatory Commission

Combined Notice of Filings #1

Take notice that the Commission received the following exempt wholesale generator filings:

Docket Numbers: EG22-72-000.

Applicants: Byrd Ranch Storage LLC.

Description: Notice of Self-Certification of Exempt Wholesale Generator Status of Byrd Ranch Storage LLC.

Filed Date: 3/24/22.

Accession Number: 20220324-5218.

Comment Date: 5 p.m. ET 4/14/22.

Take notice that the Commission received the following electric rate filings:

Docket Numbers: ER20-2119-001.

Applicants: ISO New England Inc., Versant Power.

Description: Compliance filing: ISO New England Inc. submits tariff filing per 35: Versant Power; ER20-2119—Joint Offer of Settlement to be effective N/A.

Filed Date: 3/25/22.

Accession Number: 20220325-5080.

Comment Date: 5 p.m. ET 4/15/22.

Docket Numbers: ER21-2919-002.

Applicants: Camp Grove Wind Farm LLC.

Description: Camp Grove Wind Farm LLC submits Compliance Filing as directed in February 25, 2022 Commission Letter Order.

Filed Date: 3/24/22.

Accession Number: 20220324-5206.

Comment Date: 5 p.m. ET 4/14/22.

Docket Numbers: ER22-1433-000.

Applicants: Borough of Chambersburg, Pennsylvania.

Description: Request for Prospective Waiver of Tariff Provisions.

Filed Date: 3/22/22.

Accession Number: 20220322-5197.

Comment Date: 5 p.m. ET 3/29/22.

Docket Numbers: ER22-1443-000.

Applicants: Southwest Power Pool, Inc.

Description: § 205(d) Rate Filing: 3194R1 Prairie Breeze Wind Energy GIA to be effective 3/4/2022.

Filed Date: 3/25/22.

Accession Number: 20220325-5010.

Comment Date: 5 p.m. ET 4/15/22.

Docket Numbers: ER22-1444-000.

Applicants: PJM Interconnection, L.L.C.

Description: § 205(d) Rate Filing: Original NSA, SA No. 6383; Queue No. NQ-65 to be effective 2/28/2022.

Filed Date: 3/25/22.

Accession Number: 20220325-5027.

Comment Date: 5 p.m. ET 4/15/22.

Docket Numbers: ER22-1445-000.

Applicants: Daylight I, LLC.

Description: § 205(d) Rate Filing: Facilities Use Agreements to be effective 5/25/2022.

Filed Date: 3/25/22.

Accession Number: 20220325-5055.

Comment Date: 5 p.m. ET 4/15/22.

Docket Numbers: ER22-1446-000.

Applicants: Southern California Edison Company.

Description: § 205(d) Rate Filing: SCE Revision to Formula Rate Tariff Authorized 2022 PBOPs Expense Amount to be effective 1/1/2022.

Filed Date: 3/25/22.

Accession Number: 20220325-5060.

Comment Date: 5 p.m. ET 4/15/22.

Docket Numbers: ER22-1447-000.

Applicants: Midcontinent Independent System Operator, Inc., Ameren Illinois Company.

Description: § 205(d) Rate Filing: Midcontinent Independent System Operator, Inc. submits tariff filing per 35.13(a)(2)(iii: 2022-03-25_SA 2686 Ameren-SIPC Adams Road Proj Spec 2 to be effective 5/25/2022.

Filed Date: 3/25/22.

Accession Number: 20220325-5076.

Comment Date: 5 p.m. ET 4/15/22.

Docket Numbers: ER22-1448-000.

Applicants: PECO Energy Company, PJM Interconnection, L.L.C.

Description: § 205(d) Rate Filing: PECO Energy Company submits tariff filing per 35.13(a)(2)(iii: PECO submits Revisions to Att. H-7A regarding Formula Rate Template to be effective5/27/2022.

Filed Date: 3/25/22.

Accession Number: 20220325-5083.

Comment Date: 5 p.m. ET 4/15/22.

Docket Numbers: ER22-1449-000.

Applicants: GB II Connecticut LLC.

Description: Compliance filing: Notice of Succession and Submission of New eTariff Baseline and Tariff Revisions to be effective 3/26/2022.

Filed Date: 3/25/22.

Accession Number: 20220325-5099.

Comment Date: 5 p.m. ET 4/15/22.

Docket Numbers: ER22-1450-000.

Applicants: GB II New Haven LLC.

Description: Compliance filing: Notice of Succession and Submission of New eTariff Baseline and Tariff Revisions to be effective 3/26/2022.

Filed Date: 3/25/22.

Accession Number: 20220325-5102.

Comment Date: 5 p.m. ET 4/15/22.

Docket Numbers: ER22-1451-000.

Applicants: Edwards Solar Line I, LLC.

Description: § 205(d) Rate Filing: Certificates of Concurrence for Facilities Use Agreements to be effective5/25/2022.

Filed Date: 3/25/22.

Accession Number: 20220325-5108.

Comment Date: 5 p.m. ET 4/15/22.

Docket Numbers: ER22-1452-000.

Applicants: Sanborn Solar Line I, LLC.

Description: § 205(d) Rate Filing: Certificates of Concurrence for Facilities Use Agreements to be effective5/25/2022.

Filed Date: 3/25/22.

Accession Number: 20220325-5112.

Comment Date: 5 p.m. ET 4/15/22.

Docket Numbers: ER22-1453-000.

Applicants: PJM Interconnection, L.L.C.

Description: § 205(d) Rate Filing: Original WMPA, Service Agreement No. 6387; Queue No. AG1-291 to be effective 2/23/2022.

Filed Date: 3/25/22.

Accession Number: 20220325-5141.

Comment Date: 5 p.m. ET 4/15/22.

Docket Numbers: ER22-1454-000.

Applicants: LI Solar Generation, LLC.

Description: Baseline eTariff Filing: LI Solar Generation, LLC Application for Market-Based Rate Authorization to be effective 5/25/2022.

Filed Date: 3/25/22.

Accession Number: 20220325-5157.

Comment Date: 5 p.m. ET 4/15/22.

Docket Numbers: ER22-1455-000.

Applicants: Virginia Electric and Power Company.

Description: Compliance filing: Compliance Filing and Notice of Change to be effective 3/26/2022.

Filed Date: 3/25/22.

Accession Number: 20220325-5162.

Comment Date: 5 p.m. ET 4/15/22.

Docket Numbers: ER22-1456-000.

Applicants: Virginia Electric and Power Company.

Description: Compliance filing: Compliance Filing and Notice of Change to be effective 3/26/2022.

Filed Date: 3/25/22.

Accession Number: 20220325-5163.

Comment Date: 5 p.m. ET 4/15/22.

Docket Numbers: ER22-1457-000.

Applicants: Dominion Energy Generation Marketing, Inc.

Description: Compliance filing: Compliance Filing and Notice of Change to be effective 3/26/2022.

Filed Date: 3/25/22.

Accession Number: 20220325-5164.

Comment Date: 5 p.m. ET 4/15/22.

Docket Numbers: ER22-1458-000.

Applicants: Summit Farms Solar, LLC.

Description: Compliance filing: Compliance Filing and Notice of Change to be effective 3/26/2022.

Filed Date: 3/25/22.

Accession Number: 20220325-5166.

Comment Date: 5 p.m. ET 4/15/22.

Docket Numbers: ER22-1459-000.

Applicants: Scott-II Solar LLC.

Description: Compliance filing: Compliance Filing and Notice of Change to be effective 3/26/2022.

Filed Date: 3/25/22.

Accession Number: 20220325-5169.

Comment Date: 5 p.m. ET 4/15/22.

Docket Numbers: ER22-1460-000.

Applicants: Wilkinson Solar LLC.

Description: Compliance filing: Compliance Filing and Notice of Change to be effective 3/26/2022.

Filed Date: 3/25/22.

Accession Number: 20220325-5171.

Comment Date: 5 p.m. ET 4/15/22.

Docket Numbers: ER22-1461-000.

Applicants: Greensville County Solar Project, LLC.

Description: Compliance filing: Compliance Filing and Notice of Change to be effective 3/26/2022.

Filed Date: 3/25/22.

Accession Number: 20220325-5172.

Comment Date: 5 p.m. ET 4/15/22.

Docket Numbers: ER22-1462-000.

Applicants: Hardin Solar Energy LLC.

Description: Compliance filing: Compliance Filing and Notice of Change to be effective 3/26/2022.

Filed Date: 3/25/22.

Accession Number: 20220325-5173.

Comment Date: 5 p.m. ET 4/15/22.

Take notice that the Commission received the following public utility holding company filings:

Docket Numbers: PH22-8-000.

Applicants: Canada Pension Plan Investment Board.

Description: Canada Pension Plan Investment Board submits FERC 65-B Notice of Change in Fact to Waiver Notification.

Filed Date: 3/24/22.

Accession Number: 20220324-5216.

Comment Date: 5 p.m. ET 4/14/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 25, 2022.
Debbie-Anne A. Reese,
Deputy Secretary.

[FR Doc. 2022-06789 Filed 3-30-22; 8:45 am]

BILLING CODE 6717-01-P